DEPARTMENT OF COMMERCE

National Oceanic and Atmospheric Administration

RIN 0648-XG084

Caribbean Fishery Management Council; Public Meeting

AGENCY: National Marine Fisheries Service (NMFS), National Oceanic and Atmospheric Administration (NOAA), Commerce.

ACTION: Notice of a public meeting.

SUMMARY: The Caribbean Fishery Management Council will hold its 162nd meeting in April to discuss the items contained in the agenda in the SUPPLEMENTARY INFORMATION.

DATES: The meetings will be held on April 3-4, 2018, from 9 a.m. to 5 p.m.

ADDRESSES: The meetings will be held at the Marriott Resort San Juan Stellaris Casino Hotel, 1309 Ashford Avenue, Condado, San Juan, Puerto Rico 00907.

FOR FURTHER INFORMATION CONTACT: Caribbean Fishery Management Council, 270 Muñoz Rivera Avenue, Suite 401, San Juan, Puerto Rico 00918-1903, telephone: (787) 766-5926.

SUPPLEMENTARY INFORMATION:

April 3, 2018, 9 a.m.-5 p.m.

○ Call to Order

○ Adoption of Agenda

○ Consideration of 161th Council Meeting Verbatim Transcriptions

○ Executive Director's Report

○ Scientific and Statistical Committee (SSC)) Meeting Report—Richard Appeldoorn

○ Island-based Fishery Management Plans:

—Action 1: Review of Stocks to be Managed

—Action 2: Review of Proposed Stock Complexes

—Action 3: Management Reference Points for Stocks/Stock complexes in each of the Puerto Rico, St. Thomas/St. John and St Croix FMPs

—Tiered Acceptable Biological Catch (ABC) Control Rule—Language changes

—Process for determining the buffer from the Sustainable Yield Level (SYL) (instead of overfishing limit (OFL)) to ABC (scientific uncertainty buffer) used in the Tiered ABC Control Rule.

—Results from the application of Acceptable Biological Catch (ABC) Control Rule

—Action 4: Essential Fish Habitat for Stocks Not Previously Managed in Federal Waters

—Action 5: Framework Measures

—Next Steps/Timeline Review

○ Other Business

—Public Comment Period—(5-minutes presentations)

April 3, 2018, 5:30 p.m.-6:30 p.m.

○ Closed Session

April 4, 2018, 9 a.m.-5 p.m.

○ Outreach and Education Report—Alida Ortiz

○ Emergency Location and Removal of Lost Fishing Gear in Puerto Rico: Avoiding Long Term Impacts of Ghost Gear” Raimundo Espinoza.

○ Enforcement Issues:

—Puerto Rico-DNER

—U.S. Virgin Islands-DPNR

—U.S. Coast Guard

—NMFS/NOAA

○ Meetings Attended by Council Members and Staff

○ Other Business

—Public Comment Period—(5-minute presentations)

○ Next Meeting

The order of business may be adjusted as necessary to accommodate the completion of agenda items. The meeting will begin on April 3, 2018 at 9 a.m. Other than the start time, interested parties should be aware that discussions may start earlier or later than indicated. In addition, the meeting may be extended from, or completed prior to the date established in this notice.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone: (787) 766-5926, at least 5 days prior to the meeting date.

Dated: March 14, 2018.
Tracey L. Thompson,
Acting Deputy Director, Office of Sustainable Fisheries, National Marine Fisheries Service.

[FR Doc. 2018-05474 Filed 3-16-18; 8:45 am]

BILLING CODE 3510-22-P